DEPARTMENT OF AGRICULTURE

Submission for OMB Review; Comment Request

December 11, 2012.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques and other forms of information technology should be addressed to: Desk Officer for Agriculture, Office of Information and Regulatory Affairs, Office of Management and Budget (OMB), Washington, DC, OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8681.

An agency may not conduct or sponsor a collection of information unless the collection of information displays a currently valid OMB control number and the agency informs potential persons who are to respond to the collection of information that such persons are not required to respond to the collection of information unless it displays a currently valid OMB control number.

Forest Service

Title: Recreation Fee and Wilderness Program Administration.

OMB Control Number: 0596-0106.

Summary of Collection: The Federal Lands Recreation and Enhancement Act (16 U.S.C. 6801-6814) authorizes the Forest Service (FS) to collect recreation fees for use of government facilities and services. The Organic Administration Act (16 U.S.C. 473), the Wilderness Act (16 U.S.C. 1131), and Wild and Scenic Rivers Act (16 U.S.C. 1271) authorize FS to collect information from National Forest System visitors who are asked to describe the location of their visit and estimated duration of stay. Every year millions of people visit National Forest System recreations sites. At some of these sites, the public is required to pay a fee to use the site. Fees are charged to help cover the costs of operating and maintaining fee sites, areas, and facilities such as campgrounds. With this revision the FS renamed this collection to include the information collection requirements currently approved under 0596-0019 and two new forms. FS will collect information from the forms to document when visitors pay a required recreation fee and to schedule requests for use and occupancy of government owned facilities.

Need and Use of the Information: Forms used to collection information and fees from visitors: (1) The Recreation Fee Permit Envelope (FS 2300-26 and 26a); (2) Permit for Short-Term, Non-commercial Use of Government-Owned Cabins and Lookouts (FS 2300-43); (3) Visitor Permit (FS-2300-30); (4) Visitor Registration Card (FS-2300-32); and two new forms (5) National Recreation Application (FS-2300-47) and (6) National Recreation Permit (FS-2300-48). Personal information includes, but not limited to, names, addresses, telephone number, length of stay, amount paid, requested dates of occupancy, party size and vehicle registration are collected. If this information and fees was not collected FS could not monitor visitation rates in special management areas to prevent overuse and site deterioration in environmentally sensitive areas.

Description of Respondents: Individuals or households.

Number of Respondents: 2,383,600.

Frequency of Responses: Reporting: Other (per visit).

Total Burden Hours: 126,871.

Forest Service

Title: Forest Service Ride-Along Program Application.

OMB Control Number: 0596-0170.

Summary of Collection: The Forest Service (FS) ride-along program allows the general public or other interested person to accompany agency law enforcement personnel as they conduct their normal field duties, including access to and discussions about agency law enforcement vehicles, procedures, and facilities. The program provides an opportunity for officers to enhance the public's understanding and support of the agency program and to increase agency understanding of public and community concerns. The program also aids the agency's recruitment program by allowing interested persons to observe a potential career choice or to participate in innovative intern-type programs, and by allowing the agency to showcase the quality of its program and services.

Need and Use of the Information: Information will be collected from any person who voluntarily approaches the FS and wishes to participate in the program. The FS 5300-33 program application form will be used to conduct a minimal background check and the FS 5300-34 is a liability waiver form that requires the applicant's signature and their written assurance that they have read and understood the form. The information collected from the forms will be used by FS and, in appropriate part, by any person or entity needed and authorized by the FS to provide the needed background information (primarily applicable local law enforcement agencies, state criminal justice agencies maintaining state justice records, and by the FBI). If the information is not collected, the program could not operate.

Description of Respondents: Individuals or households; Federal Government; State, Local or Tribal Government.

Number of Respondents: 150.

Frequency of Responses: Reporting: Other (per applicant).

Total Burden Hours: 24.

Forest Service

Title: The Role of Local Communities in the Development of Agreement or Contract Plans through Stewardship Contracting.

OMB Control Number: 0596-0201.

Summary of Collection: Section 323 of Public Law 108-7 (16 U.S.C. 2104 Note) requires the Forest Service (FS) and Bureau of Land Management (BLM) to report to Congress annually on the role of local communities in the development of agreement or contract plans through stewardship contracting. To meet that requirement FS conducts an annual telephone survey to gather the necessary information for use by both the FS and BLM in developing their separate annual reports to Congress.

Need and Use of the Information: The survey will collect information on the role of local communities in the development of agreement or contract plans through stewardship contracting. The survey will provide information regarding the nature of the local community involved in developing agreement or contract plans, the nature of roles played by the entities involved in developing agreement or contract plans, the benefits to the community and agency by being involved in planning and development of contract plans, and the usefulness of stewardship contracting in helping meet the needs of local communities. FS posts the report on its Web page for viewing by the public. Congress also makes the agency reports available for use by organizations both inside and outside the government.

Description of Respondents: Individuals or households; business or other for-profit; not-for-profit institutions; Federal Government; State, Local or Tribal Government.

Number of Respondents: 507.

Frequency of Responses: Reporting: Annually.

Total Burden Hours: 380.

Charlene Parker,
Departmental Information Collection Clearance Officer.

[FR Doc. 2012-30258 Filed 12-14-12; 8:45 am]

BILLING CODE 3410-11-P